DEPARTMENT OF TRANSPORTATION

Federal Aviation Administration

14 CFR Part 97

[Docket No. 30763; Amdt. No. 3408]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 24, 2011. The compliance date for each SIAP, associated Takeoff Minimums, and ODP is specified in the amendatory provisions.

The incorporation by reference of certain publications listed in the regulations is approved by the Director of the Federal Register as of January 24, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on January 7, 2011.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 10 FEB 2011

Hunstville, AL, Huntsville Intl—Carl T Jones Field, RADAR-1, Amdt 10

Mobile, AL, Mobile Downtown, VOR RWY 14, Amdt 8

Mobile, AL, Mobile Downtown, VOR RWY 18, Amdt 2

Mesa, AZ, Falcon Fld, NDB-A, Amdt 1, CANCELLED

Ontario, CA, Ontario Intl, Takeoff Minimums and Obstacle DP, Amdt 8

San Diego/El Cajon, CA, Gillespie Field, Takeoff Minimums and Obstacle DP, Amdt 5

Gunnison, CO, Gunnison-Crested Butte Rgnl, Takeoff Minimums and Obstacle DP, Amdt 7

Chicago/Aurora, IL, Aurora Muni, RNAV (GPS) RWY 9, Amdt lA

Chicago/Rockford, IL, Chicago/Rockford Intl, Takeoff Minimums and Obstacle DP, Orig

Baltimore, MD, Baltimore/Washington Intl Thurgood Marshall, ILS OR LOC RWY 33L, Amdt 10A

Baltimore, MD, Baltimore/Washington Intl Thurgood Marshall, ILS OR LOC RWY 33R, Amdt 1A

Grand Rapids, MI, Gerald R. Ford Intl, ILS OR LOC RWY 35, Amdt lA

Minneapolis, MN, Anoka County-Blaine Arpt (Janes Field), RNAV (GPS) RWY 9, Orig-B

Minneapolis, MN, Anoka County-Blaine Arpt (Janes Field), RNAV (GPS) RWY 18 Orig-B

Minneapolis, MN, Crystal, Takeoff Minimums and Obstacle DP, Amdt 3

Rush City MN, Rush City Rgnl, Takeoff Minimums and Obstacle DP, Orig

Kansas City, MO, Charles B. Wheeler Downtown, ILS OR LOC RWY 19, Amdt 22

Elizabethtown, NC, Curtis L Brown Jr Field, NDB RWY 33, Amdt 1, CANCELLED

Las Vegas, NV, Henderson Executive, RNAV (GPS)-B, Amdt 1

Las Vegas, NV, Henderson Executive, VOR-C, Amdt 1

Ontario, OR, Ontario Muni, Takeoff Minimums and Obstacle DP, Amdt 4

Harrisburg, PA, Harrisburg/Capital City, Takeoff Minimums and Obstacle DP, Amdt 4

Indiana, PA, Indiana County-Jimmy Stewart Fld, Takeoff Minimums and Obstacle DP, Amdt 2

Charleston, SC, Charleston Executive, ILS OR LOC RWY 9, Amdt 2

Charleston, SC, Charleston Executive, RNAV (GPS) RWY 9, Amdt 2

Charleston, SC, Charleston Executive, VOR-A, Amdt 1, CANCELLED

Alice, TX, Alice Intl, LOC/DME RWY 31, Orig-B

Alice, TX, Alice Intl, RNAV (GPS) RWY 13, Orig-C

Alice, TX, Alice Intl, RNAV (GPS) RWY 31, Amdt 1C

Alice, TX, Alice Intl, VOR RWY 31, Amdt 13B

Alice, TX, Alice Intl, VOR-A, Amdt 15B

Houston, TX, Ellington Field, ILS or LOC RWY 17R, Amdt 5B

Houston, TX, William P Hobby, ILS OR LOC RWY 12R, Amdt 12A

Taylor, TX, Taylor Muni, VOR/DME RWY 17, Amdt 1A

Appleton, WI, Outagamie County Rgnl, ILS OR LOC RWY 3, Amdt 17B

Effective 10 MAR 2011

Kodiak, AK, Kodiak, KODIAK SIX Graphic DP

Kodiak, AK, Kodiak, Takeoff Minimums and Obstacle DP, Amdt 3

Lake Village, AR, Lake Village Muni, VOR-A, Amdt 8

Lake Village, AR, Lake Village Muni, VOR/DME-B, Amdt 6

Little Rock, AR, Adams Field, RNAV (GPS) RWY 22L, Amdt 1A

Little Rock, AR, Adams Field, RNAV (GPS) RWY 22R, Amdt 1A

Little Rock, AR, Adams Field, RNAV (GPS) RWY 36, Orig-A

Grand Junction, CO, Grand Junction Rgnl, MONUMENT TWO Graphic DP

Middletown, DE, Summit, NDB-A, Amdt 8

Madison, GA, Madison Muni, Takeoff Minimums and Obstacle DP, Orig

Ankeny, IA, Ankeny Rgnl, Takeoff Minimums and Obstacle DP, Amdt 1

Davenport, IA, Davenport Muni, Takeoff Minimums and Obstacle DP, Amdt 2

Tipton, IA, Mathews Memorial, VOR RWY 11, Amdt 3

Blackfoot, ID, Blackfoot/McCarley Field, Takeoff Minimums and Obstacle DP, Amdt 1

Chicago/Lake in the Hills, IL, Lake in the Hills, Takeoff Minimums and Obstacle DP, Orig

Chicago/Lake in the Hills, IL, Lake in the Hills, VOR RWY 26, Amdt 4

Greenwood/Wonder Lake, IL, Galt Field, Takeoff Minimums and Obstacle DP, Orig

Winchester, IN, Randolph County, Takeoff Minimums and Obstacle DP, Orig

El Dorado, KS, Captain Jack Thomas/El Dorado, Takeoff Minimums and Obstacle DP, Orig

Winfield/Arkansas City, KS, Strother Field, Takeoff Minimums and Obstacle DP, Orig

Minden, LA, Minden, GPS RWY 1, Orig, CANCELLED

Minden, LA, Minden, GPS RWY 19, Orig-B, CANCELLED

Minden, LA, Minden, NDB RWY 1, Amdt 2, CANCELLED

Minden, LA, Minden, NDB RWY 19, Amdt 2, CANCELLED

Minden, LA, Minden, RNAV (GPS) RWY 1, Orig

Minden, LA, Minden, RNAV (GPS) RWY 19, Orig

Minden, LA, Minden, VOR/DME-A Amdt 5

Bar Harbor, ME, Hancock County-Bar Harbor, ILS OR LOC RWY 22, Amdt 6

Bar Harbor, ME, Hancock County-Bar Harbor, LOC/DME BC RWY 4, Amdt 2, CANCELLED

Bar Harbor, ME, Hancock County-Bar Harbor, RNAV (GPS) RWY 4, Amdt 1

Bar Harbor, ME, Hancock County-Bar Harbor, RNAV (GPS) RWY 22, Amdt 1

Troy, MI, Oakland/Troy, Takeoff Minimums and Obstacle DP, Amdt 4

West Branch, MI, West Branch Community, Takeoff Minimums and Obstacle DP, Amdt 3

Cook, MN, Cook Muni, Takeoff Minimums and Obstacle DP, Orig

Duluth, MN, Sky Harbor, RNAV (GPS) RWY 32, Orig, CANCELLED

Duluth, MN, Sky Harbor, Takeoff Minimums and Obstacle DP, Orig, CANCELLED

Grand Rapids, MN, Grand Rapids/Itasca Co-Gordon Newstrom Fld, ILS OR LOC RWY 34, Amdt 2

Minneapolis, MN, Flying Cloud, Takeoff Minimums and Obstacle DP, Amdt 5

Red Wing, MN, Red Wing Rgnl, RNAV (GPS) RWY 27, Amdt 2

St. Paul, MN, St Paul/Lake Elmo, Takeoff Minimums and Obstacle DP, Amdt 1

Minden, NE, Pioneer Village Field, VOR RWY 34, Amdt 1C, CANCELLED

Minden, NE, Pioneer Village Field, VOR-A, Orig

Roswell, NM, Roswell Intl Air Center, ILS OR LOC RWY 21, Amdt 18

Akron, OH, Akron-Canton Rgnl, RNAV (GPS) RWY 23, Orig

Oklahoma City, OK, Will Rogers World, ILS OR LOC RWY 35R, ILS RWY 35R (CAT II), Amdt 8F

Sand Springs, OK, William R. Pogue Muni, Takeoff Minimums and Obstacle DP, Amdt 3

Beaver Falls, PA, Beaver County, Takeoff Minimums and Obstacle DP, Amdt 2

Monongahela, PA, Rostraver, Takeoff Minimums and Obstacle DP, Amdt 1

Punxsutawney, PA, Punxsutawney Muni, Takeoff Minimums and Obstacle DP, Amdt 3

Dayton, TN, Mark Anton, Takeoff Minimums and Obstacle DP, Amdt 2

Denton, TX, Denton Muni, GPS RWY 35, Amdt 1A, CANCELLED

Denton, TX, Denton Muni, NDB RWY 18, Amdt 7

Denton, TX, Denton Muni, RNAV (GPS) RWY 18, Orig

Denton, TX, Denton Muni, RNAV (GPS) RWY 36, Orig

Houston, TX, David Wayne Hooks Memorial, RNAV (GPS) RWY 17R, Amdt 1A

San Antonio, TX, San Antonio Intl, RNAV (GPS) Y RWY 3, Amdt 2A

San Antonio, TX, San Antonio Intl, RNAV (GPS) Y RWY 12R, Amdt 1A

San Antonio, TX, San Antonio Intl, RNAV (GPS) Y RWY 21, Amdt 1B

San Antonio, TX, San Antonio Intl, RNAV (GPS) Y RWY 30L, Amdt 1A

Waco, TX, Waco Rgnl, GPS RWY 14, Orig, CANCELLED

Waco, TX, Waco Rgnl, GPS RWY 32, Orig, CANCELLED

Waco, TX, Waco Rgnl, RNAV (GPS) RWY 14, Orig

Waco, TX, Waco Rgnl, RNAV (GPS) RWY 32, Orig

Waco, TX, Waco Rgnl, VOR/DME RWY 32, Amdt 15

Yoakum, TX, Yoakum Muni, Takeoff Minimums and Obstacle DP, Orig

Fredericksburg, VA, Shannon, GPS RWY 24, Orig-B, CANCELLED

Fredericksburg, VA, Shannon, NDB RWY 24, Amdt 3

Fredericksburg, VA, Shannon, RNAV (GPS) RWY 24, Orig

Fredericksburg, VA, Shannon, Takeoff Minimums and Obstacle DP, Amdt 1

Moses Lake, WA, Grant Co Intl. RNAV (GPS) Y RWY 4, Amdt 1

Moses Lake, WA, Grant Co Intl. RNAV (GPS) Y RWY 14L, Amdt 1

Moses Lake, WA, Grant Co Intl. RNAV (GPS) Y RWY 22, Amdt 1

Moses Lake, WA, Grant Co Intl. RNAV (GPS) Y RWY 32R, Amdt 2

Moses Lake, WA, Grant Co Intl. RNAV (RNP) Z RWY 4, Orig

Moses Lake, WA, Grant Co Intl. RNAV (RNP) Z RWY 14L, Orig

Moses Lake, WA, Grant Co Intl. RNAV (RNP) Z RWY 22, Orig

Moses Lake, WA, Grant Co Intl. RNAV (RNP) Z RWY 32R, Orig

Spokane, WA, Spokane Intl, RNAV (RNP) Z RWY 3, Orig

Spokane, WA, Spokane Intl, RNAV (RNP) Z RWY 7, Orig

Spokane, WA, Spokane Intl, RNAV (RNP) Z RWY 21, Orig

Spokane, WA, Spokane Intl, RNAV (RNP) Z RWY 25, Orig

Vancouver, WA, Pearson Field, LDA-A, Amdt 1

Green Bay, WI, Austin Struabel Intl, LOC BC RWY 24, Amdt 19

[FR Doc. 2011-815 Filed 1-21-11; 8:45 am]

BILLING CODE 4910-13-P